Title 3—

The President

Executive Order 13962 of December 8, 2020

Ensuring Access to United States Government COVID-19 Vaccines

By the authority vested in me as President by the Constitution and the laws of the United States of America, it is hereby ordered as follows:

Section 1. Purpose. Through unprecedented collaboration across the United States Government, industry, and international partners, the United States expects to soon have safe and effective COVID-19 vaccines available for the American people. To ensure the health and safety of our citizens, to strengthen our economy, and to enhance the security of our Nation, we must ensure that Americans have priority access to COVID-19 vaccines developed in the United States or procured by the United States Government (“United States Government COVID-19 Vaccines”).

Sec. 2. Policy. It is the policy of the United States to ensure Americans have priority access to free, safe, and effective COVID-19 vaccines. After ensuring the ability to meet the vaccination needs of the American people, it is in the interest of the United States to facilitate international access to United States Government COVID-19 Vaccines.

Sec. 3. American Access to COVID-19 Vaccines. (a) The Secretary of Health and Human Services, through Operation Warp Speed and with the support of the Secretary of Defense, shall ensure safe and effective COVID-19 vaccines are available to the American people, coordinating with public and private entities—including State, territorial, and tribal governments, where appropriate—to enable the timely distribution of such vaccines.

(b) The Secretary of Health and Human Services, in consultation with the Secretary of Defense and the heads of other executive departments and agencies (agencies), as appropriate, shall ensure that Americans have priority access to United States Government COVID-19 Vaccines, and shall ensure that the most vulnerable United States populations have first access to such vaccines.

(c) The Secretary of Health and Human Services shall ensure that a sufficient supply of COVID-19 vaccine doses is available for all Americans who choose to be vaccinated in order to safeguard America from COVID-19.

Sec. 4. International Access to United States Government COVID-19 Vaccines. After determining that there exists a sufficient supply of COVID-19 vaccine doses for all Americans who choose to be vaccinated, as required by section 3(b) of this order, the Secretary of Health and Human Services and the Secretary of State, in coordination with the Administrator of the United States Agency for International Development, the Chief Executive Officer of the United States International Development Finance Corporation, the Chairman and President of the Export-Import Bank of the United States, and the heads of other agencies, shall facilitate international access to United States Government COVID-19 Vaccines for allies, partners, and others, as appropriate and consistent with applicable law.

Sec. 5. Coordination of International Access to United States Government COVID-19 Vaccines. Within 30 days of the date of this order, the Assistant to the President for National Security Affairs shall coordinate development of an interagency strategy for the implementation of section 4 of this order.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

December 8, 2020.

[FR Doc. 2020-27455

Filed 12-10-20; 8:45 am]

Billing code 3295-F1-P